DEPARTMENT OF COMMERCE

National Oceanic and Atmospheric Administration

[I.D. 061203I]

Small Takes of Marine Mammals Incidental to Specified Activities; Movement of Steel Drilling Caisson through the Beaufort Sea from Cross Island, McCovey Prospect to Herschel Island, Yukon Territory

AGENCY: National Marine Fisheries Service (NMFS), National Oceanic and Atmospheric Administration (NOAA), Commerce.

ACTION: Notice of receipt of application and proposed incidental harassment authorization; request for comments.

SUMMARY: NMFS has received a request from EnCana Oil and Gas (USA) Inc. (EnCana) for an authorization to take small numbers of marine mammals by harassment incidental to movement of a Steel Drilling Caisson (SDC) from Cross Island, McCovey Prospect, AK through the Beaufort Sea to Herschel Island in the Yukon Territory and for associated activities in the Beaufort Sea. If there is a problem with this location for the SDC, the U.S. Outer Continental Shelf waters north of West Dock has been named as the backup location. Under the Marine Mammal Protection Act (MMPA), NMFS is requesting comments on its proposal to authorize EnCana to incidentally take, by harassment, small numbers of bowhead whales, beluga whales, ringed seals, bearded seals, and spotted seals in the above mentioned areas during August 2003 through January 2004 for SDC preparation, movement, refueling, and removal of equipment. The incidental take of polar bears and walrus from EnCana's planned activities are not covered by this proposed incidental harassment authorization, as these species are under jurisdiction of the U.S. Fish and Wildlife Service (USFWS). EnCana is applying for a Letter of Authorization from the USFWS for potential takes of polar bear and Pacific walrus.

DATES: Comments and information must be received no later than July 18, 2003.

ADDRESSES: Comments on the application should be addressed to Kaja Brix, Acting Chief, Marine Mammal Conservation Division, Office of Protected Resources, NMFS, 1315 East-West Highway, Silver Spring, MD 20910-3225. A copy of the application used in this document may be obtained by writing to this address or by telephoning one of the contacts listed here.

FOR FURTHER INFORMATION CONTACT: Kimberly Skrupky, (301) 713-2322, ext 163 or Brad Smith, (907) 271-3023.

SUPPLEMENTARY INFORMATION:

Background

Sections 101(a)(5)(A) and (D) of the MMPA (16 U.S.C. 1361 et seq.) direct the Secretary of Commerce to allow, upon request, the incidental, but not intentional taking of small numbers of marine mammals by U.S. citizens who engage in a specified activity (other than commercial fishing) within a specified geographical region if certain findings are made and either regulations are issued or, if the taking is limited to harassment, notice of a proposed authorization is provided to the public for review.

Permission for incidental takings may be granted if NMFS finds that the taking will have no more than a negligible impact on the species or stock(s) and will not have an unmitigable adverse impact on the availability of the species or stock(s) for subsistence uses and that the permissible methods of taking and requirements pertaining to the monitoring and reporting of such taking are set forth.

NMFS has defined “negligible impact” in 50 CFR 216.103 as:

an impact resulting from the specified activity that cannot be reasonably expected to, and is not reasonably likely to, adversely affect the species or stock through effects on annual rates of recruitment or survival.

Subsection 101(a)(5)(D) of the MMPA established an expedited process by which citizens of the United States can apply for an authorization to incidentally take small numbers of marine mammals by harassment. The MMPA defines “harassment” as:

any act of pursuit, torment, or annoyance which (i) has the potential to injure a marine mammal or marine mammal stock in the wild [“Level A harassment”]; or (ii) has the potential to disturb a marine mammal or marine mammal stock in the wild by causing disruption of behavioral patterns, including, but not limited to, migration, breathing, nursing, breeding, feeding, or sheltering [“Level B harassment”].

Subsection 101(a)(5)(D) establishes a 45-day time limit for NMFS review of an application followed by a 30-day public notice and comment period on any proposed authorizations for the incidental harassment of small numbers of marine mammals. Within 45 days of the close of the comment period, NMFS must either issue or deny issuance of the authorization.

Summary of Request

On May 14, 2003, NMFS received an application from EnCana requesting an authorization for the harassment of small numbers of five species of marine mammals incidental to movement of the SDC from Cross Island, McCovey Prospect, AK through the Beaufort Sea to Herschel Island, Yukon Territory and associated activities beginning on or about August 1, 2003 to ice-up later in the year. The SDC will lift-off from its current location and will be towed to the new set down location. Once the SDC reaches Herschel Island, it will go into cold stack mode. Helicopter supported one-day reconnaissance trips to the SDC may occur to check on winterization conditions on-board the SDC. A detailed description of these activities proposed for 2003-2004 is contained in the application (Lynx Enterprises, Inc., 2003), which is available upon request (see ADDRESSES)

Description of Marine Mammals Affected by the Activity

The Beaufort Sea supports many marine mammals under NMFS jurisdiction, including bowhead whales (Balaena mysticetus), beluga whales(Delphinapterus leucas), ringed seals (Phoca hispida), bearded seals (Erignathus barbatus) and spotted seals (Phoca largha). Descriptions of the biology, distribution, and current status of these species can be found in NMFS Stock Assessment Reports (2000, 1999, and 1997). Please refer to those documents for more information on these species. These documents can be downloaded electronically from: http://www.nmfs.noaa.gov/pr/PR2/Stock_Assessment_Program/individual_sars.html

Potential Effects of SDC Mobilization and Associated Activities on Marine Mammals

Potential harassment of marine mammals will result from the noise generated by the operation of towing vessels during SDC mobilization between Cross Island and Herschel Island and the noise generated during equipment removal of the SDC. The physical presence of the SDC tow vessels and helicopter could also lead to disturbance of marine mammals by visual or other cues. The potential for collisions between tug vessels and whales will be reduced by the slow tow speed (2 knots) and visual monitoring by on-board marine mammal observers.

Marine mammal species with the highest likelihood of being harassed during the SDC mobilization phase (August) are: beluga whales, ringed seals, and bearded seals. Spotted seals are less likely to be harassed during the SDC mobilization phase because they reside closer to the shore. Bowhead whales are the only species listed under the ESA that could potentially be affected by these activities. However, they are not expected to be encountered during the mobilization phase because the majority of the whales will be at their summer feeding grounds in Canada. However, a few transitory whales may be encountered along the routes. Beluga whales occur in the Beaufort Sea during the summer, but are expected to be found near the pack ice edge north of the proposed SDC relocation routes. Depending on seasonal ice conditions, it is possible that belugas may be encountered during the transit.

Based on past surveys, ringed seals should represent the vast majority of marine mammals encountered during the transit. Ringed seals are expected to be present all along the SDC mobilization routes. There is the possibility that bearded and spotted seals will also be harassed during transit. Spotted seals may be present in Prudhoe Bay, but it is likely that they may be closer to shore and therefore are not expected to be harassed during transit phase.

It is not likely that bowhead whales will be impacted by transit operations since EnCana plans to finish the relocation operations and shutdown (i.e., cold stack “quiet” mode) the SDC by late August, when bowhead whales begin their westward fall migration in the Beaufort Sea. According to 23 years of survey data collected by the Minerals Management Service (MMS), North Slope Borough, the Alaska Eskimo Whaling Commission (AEWC), and many more years of traditional knowledge from Cross Island-based whale hunters, the annual fall migration of the bowhead whales is normally many kilometers north of the McCovey Prospect, where the SDC currently resides. However, because the fall migration path of the bowhead whales is dependent on environmental conditions (i.e., extent of ice coverage) that vary from year-to-year, the extreme southern edge of the fall migration corridor may pass closer to McCovey Prospect, increasing the likelihood that bowhead whales may be harassed by activities. Transitory bowhead whales traveling ahead of the herd may be encountered during relocation. Beluga whales migrate along the pack ice edge north of the proposed relocation routes and are not expected to be seen.

Potential Effects of SDC Mobilization and Associated Activities on Habitat

The activity will not result in the disturbance of any habitat for the affected species.

Numbers of Marine Mammals Expected to Be Taken

The number of marine mammals that may be taken as a result of the SDC mobilization operation is unpredictable. Operations are scheduled to occur prior to the westward migration and associated subsistence bowhead whale hunts to purposely avoid any take of this species. Noise disturbance from vessels and helicopters or from noise generated from SDC might qualify as harassment to seals, but previous surveys have indicated little behavioral reaction from these animals to slow-moving or stationary vessels.

Effects of SDC Mobilization and Associated Activities on Subsistence Needs

No impact is anticipated on the availability of marine mammal species and stocks for subsistence uses since an amendment to the existing Conflict Avoidance Agreement (CAA) and Plan of Cooperation has been negotiated with the Alaska Eskimo Whaling Commission (AEWC) and affected village Whaling Captains Associations. EnCana has taken steps to disclose its project plans in initial consultation with the Executive Director and the president of the AEWC, the Mayor of the North Slope Borough, and village Whaling Captains. EnCana coordinated with the AEWC and amended the existing CAA to include the 2003 SDC relocation. The operation is scheduled to occur prior to the annual fall bowhead whale hunt.

Mitigation

During mobilization of the SDC from Cross Island at the McCovey Prospect through the Beaufort Sea to Herschel Island, EnCana will have on-board marine mammal monitors throughout the transit. The program will commence with the reoccupation of SDC at the current McCovey deployment and will continue on a nearly 24-hour basis until the rig exits U.S. waters and goes into cold stack mode in Canada.

EnCana proposes to mitigate the potential negative impacts from its relocation and supply removal activities by planning the timing of operations in such a way as to reduce the production of noise during the fall bowhead whale migration. This includes putting the SDC into cold stack mode during the entire bowhead migration period (approximately late-August through mid-October). In addition to these mitigation measures, EnCana worked with the AEWC, North Slope Borough, and other whaling communities and amended the existing CAA to include the 2003 relocation to eliminate impacts to subsistence hunting of bowheads and thereby on bowheads themselves.

Monitoring

As part of its application, EnCana proposed a visual monitoring program for assessing impacts to marine mammals during the SDC's transit from Cross Island, McCovey Prospect to Herschel Island or the backup location in Federal Waters north of West Dock near Prudhoe Bay, Alaska.

EnCana proposes to initiate a comprehensive training program for all potential marine mammal observers that includes learning the identification and behavior of all local species known to use the areas where EnCana will be operating. This training would be conducted by professional marine biologists and experienced Native observers participating in the monitoring program. The observer protocol would be to scan the area around vessels and the SDC with binoculars of sufficient power. Range finding equipment will be supplied to observers in order to better estimate distances. Observers would collect data on the presence, distribution, and behavior of marine mammals relative to EnCana activities as well as climatic conditions at the time of marine mammal sightings. Observations would be made on a nearly 24-hour basis from the time the SDC leaves Cross Island until the SDC crosses the Canadian border or, if the backup deployment in U.S. waters is used, is placed in cold stack mode. If the backup deployment in U.S. waters is used and re-supply efforts are necessary between the end of the fall bowhead whale harvest and ice-over, observers would be re-deployed on the SDC and supply vessels. All personnel stationed aboard the SDC during the open water season of 2003 would also receive training on marine mammal monitoring and utilize marine mammal reporting forms to document any incidental takes of marine mammals.

As required by the MMPA, this proposed monitoring plan will be subject to review and approval by NMFS.

Reporting

All monitoring data collected would be reported to NMFS and the USFWS on a weekly basis. EnCana must provide a final report on 2003-2004 activities to NMFS within 90 days of the completion of the activity. This report will provide dates and locations of the SDC movements and other operational activities, weather conditions, dates and locations of any activities related to monitoring the effects on marine mammals, and the methods, results, and interpretation of all monitoring activities, including estimates of the level and type of take, species name and numbers of each species observed, direction of movement of species, and any observed changes or modifications in behavior.

Endangered Species Act (ESA) Consultation

The effects of oil and gas exploration activities in the U.S. Beaufort Sea, which includes this proposed activity, on listed species were analyzed as part of a consultation on oil and gas leasing and exploration activities in the Beaufort Sea, Alaska, and authorization of small takes under the MMPA. A biological opinion on these activities was issued on May 25, 2001. Pursuant to section 7 of the ESA, NMFS has begun consultation on the proposed issuance of an IHA to EnCana. The only species listed in the ESA that could be taken during these activities are bowhead whales. The effects of the proposed IHA on bowhead whales will be compared with the analysis contained in the 2001 biological opinion. If an authorization to incidentally harass marine mammals listed under the ESA is issued for this activity under the MMPA, NMFS will issue an Incidental Take Statement under section 7 of the ESA.

National Environmental Policy Act

In 1997, NMFS prepared and released an EA that addressed the impacts on the human environment from issuance of an authorization for taking marine mammals incidental to moving an oil drilling structure through the Beaufort Sea during the summer and conducting oil exploration activities in the eastern Beaufort Sea and the alternatives to that proposed action. A Finding of No Significant Impact was signed on September 25, 1997. Because the action discussed in this document is not substantially different from the 1997 action, and because no significant new scientific information or analyses have been developed in the past several years significant enough to warrant new NEPA documentation, this action is categorically excluded from further review under NOAA Administrative Order 216-6. A copy of that EA is available upon request (see ADDRESSES).

Preliminary Conclusions

NMFS has preliminarily determined that the short-term impact of SDC mobilization from Cross Island, McCovey Prospect, AK through the Beaufort Sea to Herschel Island, Yukon Territory, or mobilization to the U.S. Outer Continental Shelf waters north of West Dock, and associated activities will result, at worst, in a temporary modification in behavior by certain species of whales and pinnipeds. While behavioral modifications may be made by these species to avoid the resultant noise or visual cues, this behavioral change is expected to have a negligible impact on the survival and recruitment of stocks.

While the number of potential incidental harassment takes will depend on the year-to-year distribution and abundance of marine mammals in the area of operations, due to the distribution and abundance of marine mammals during the projected period of activity and the location of the proposed activity, the number of potential harassment takings is estimated to be small. In addition, no take by injury and/or death is anticipated, and there is no potential for temporary or permanent hearing impairment as a result of the activities. No rookeries, mating grounds, areas of concentrated feeding, or other areas of special significance for marine mammals occur within or near the relocation route.

The principal measures undertaken to ensure that the SDC relocation will not have an adverse impact on subsistence activities is a Conflict Avoidance Agreement (CAA), Plan of Cooperation, and an operation schedule prior to the annual bowhead whale subsistence hunt, as amended on June 3, 2003.

Proposed Authorization

NMFS proposes to issue an IHA for the harassment of marine mammals incidental to movement of a SDC from Cross Island, McCovey Prospect, AK through the Beaufort Sea to Herschel Island, Yukon Territory, or, as a backup, to the U.S. Outer Continental Shelf waters north of West Dock, and associated activities. This IHA proposal is contingent upon incorporation of the previously mentioned mitigation, monitoring, and reporting requirements. NMFS has preliminarily determined that the proposed activity would result in the harassment of small numbers of bowhead whales, beluga whales, ringed seals, bearded seals and spotted seals; would have no more than a negligible impact on these marine mammal stocks; and would not have an unmitigable adverse impact on the availability of marine mammal stocks for subsistence uses once the Plan of Cooperation and CAA is amended.

Information Solicited

NMFS requests interested persons to submit comments, and information, concerning this request to Kaja Brix, Acting Chief, Marine Mammal Conservation Division, Office of Protected Resources, NMFS, 1315 East-West Highway, Silver Spring, MD 20910-3225.

Dated: June 12, 2003.
Stephen L. Leathery,
Acting Office Director, Office of Protected Resources, National Marine Fisheries Service.

[FR Doc. 03-15408 Filed 6-17-03; 8:45 am]

BILLING CODE 3510-22-S